DEPARTMENT OF THE INTERIOR

National Park Service

30-day Notice of Intention To Request Clearance of Collection of Information; Opportunity for Public Comment

AGENCY: National Park Service, Department of the Interior.

ACTION: Notice and request for comments.

SUMMARY: Under the Paperwork Reduction Act of 1995 and 5 CFR part 1320, Reporting and Record Keeping Requirements, the National Park Service (NPS) invites public comments on a submitted request to the Office of Management and Budget (OMB) to approve an extension of a currently approved collection (OMB # 1024-0021). Comments are invited on: (1) The need for the information being collected, including whether the information has practical utility; (2) the validity and accuracy of the reporting burden estimate; (3) ways to enhance the quality, utility, and clarity of the information to be collected; and (4) ways to minimize the burden of the information collection on respondents, including the use of automated collection techniques or other forms of information technology.

The NPS requests comments on an application form that allows the Park Programs Division of National Capital Parks-Central to process requests from individuals and organizations to hold public gatherings on NPS property. These public gatherings consist of special events and demonstrations that the NPS is charged with regulating to insure protection of cultural and natural resources within NPS property. The NPS will use the information you submit to determine whether or not to make modifications to the application form. Once the NPS makes any modifications that it may decide to adopt, the NPS plans to submit a proposed collection of information package to OMB with a request that OMB approve the package and reinstate the OMB clearance number. You may obtain copies of the application from the source listed below (see the ADDRESSES section).

DATES: Public comments on the proposed Information Collection Request (ICR) will be accepted on or before July 6, 2004.

ADDRESSES: You may submit comments directly to the Desk Officer for the Department of the Interior (OMB #1024-0021), Office of Information and Regulatory Affairs, OMB, by fax at (202) 395-6566, or by electronic mail at oira_docket@omb.eop.gov. You may also mail or hand carry a copy of your comments to Kym Elder, national Capital Region, 1100 Ohio Drive, Room 240, SW., Washington, DC 20242, or by fax at (202) 619-7244, or by electronic mail at kym_elder@nps.gov.

Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However; we will not consider anonymous comments. We will make all submissions from organizations or businesses, and from individuals identifying themselves as representatives or officials of organizations or businesses, available for public inspection in their entirety.

To request printed copies of the documents contact: Kym Elder, National Capital Region, 1100 Ohio Dr., Room 240, SW., Washington, DC 20242, via phone at (202) 619-7246, via fax at (202) 619-7244, or via e-mail at kym_elder@npg.gov.

SUPPLEMENTARY INFORMATION: Title: National Park Service, National Capital Region Application for a Permit to Conduct a Demonstration or Special Event in Park Areas and a Waiver of Numerical Limitations on Demonstrations for White House Sidewalk and/or Lafayette Park.

Departmental Form Number: None.

OMB Number: 1024-0021.

Expiration Date: 4/30/04.

Type of Request: Extension of a currently approved collection.

Description of Need: The information collection responds to the statutory requirement that the NPS preserve park resources and regulate the use of units of the National Park System. The Information to be collected identifies: (1) Those individuals and/or organizations that wish to conduct a public gathering on NPS property in the National Capital Region, (2) the logistics of a proposed demonstration or special event that aid the NPS in the regulating activities to insure that they are consistent with NPS mission, (3) potential civil disobedience and traffic control issues for the assignment of the United States Park Police personnel, (4) circumstances which may warrant a bond to be assigned to the event for the purpose of covering potential cost to repair damage caused by the event.

Description of Respondents: Respondents are those individuals or organizations that wish to conduct a special event or demonstration on NPS property within the National Capital Region.

Estimated average number of annual respondents: 4200.

Estimated average burden hours per response: .5 hour.

Estimated annual reporting burden: 2100 hours.

Dated: April 22, 2004.
Leonard E. Sterne,
National Park Service Information and Collection Clearance Officer.

[FR Doc. 04-12592 Filed 6-2-04; 8:45 am]

BILLING CODE 4312-52-M